DEPARTMENT OF TRANSPORTATION

Federal Aviation Administration

Aging Transport Systems Rulemaking Advisory Committee; Meeting

AGENCY: Federal Aviation Administration (FAA), DOT.

ACTION: Notice of public meeting.

SUMMARY: This notice announces a public meeting of the FAA's Aging Transport Systems Rulemaking Advisory Committee.

DATES: The meeting will be held on April 25 and 26, 2001 and will begin at 9 a.m. on April 25.

ADDRESSES: The meeting will be held at FAA in the Bessie Coleman Conference Center, 800 Independence Avenue, SW., Washington, DC 20591.

FOR FURTHER INFORMATION CONTACT: Shirley Stroman, Office of Rulemaking, ARM-208, FAA, 800 Independence Avenue, SW., Washington, DC 20591; telephone (202) 267-7470; fax (202) 267-5075; or e-mail shirley.stroman@faa.gov.

SUPPLEMENTARY INFORMATION: Notice is hereby given of a meeting of the Aging Transport Systems Rulemaking Advisory Committee, which will be held at FAA, the Bessie Coleman Conference Center, 800 Independence Avenue, SW., Washington, DC 20591.

The meeting agenda will include the following:

April 25, 2001

• Review and Approve Minutes

• Present New Tasks

• Review ATSRAC Rulemaking Process

• Review Tasking Schedule

• Begin Discussion of Tasks

April 26, 2001

• Continue Discussion of Tasks

Attendance is open to the public but will be limited to the availability of meeting room space. The FAA will arrange teleconference capability for individuals who wish to participate by teleconference if we receive notification before April 12. Callers from outside the Washington, DC metropolitan area will be responsible for paying long distance charges. We can also provide sign and oral interpretation as well as a listening device if requests are made within 10 calendar days before the meeting. You may arrange for these services by contacting the person listed under the FOR FURTHER INFORMATION CONTACT heading of this notice.

The public may present written statements to the Committee at any time by providing 20 copies to the Committee's Executive Director or by bringing the copies to the meeting. Public statements will only be considered if time permits.

Issued in Washington, DC on March 29, 2001.
Anthony F. Fazio,
Director, Office of Rulemaking.

[FR Doc. 01-8442 Filed 4-5-01; 8:45 am]

BILLING CODE 4910-13-M